DEPARTMENT OF TRANSPORTATION

Office of the Secretary

Aviation Proceedings, Agreements filed during the week ending February 23, 2001

The following Agreements were filed with the Department of Transportation under the provisions of 49 U.S.C. Sections 412 and 414. Answers may be filed within 21 days after the filing of the application.

Docket Number: OST-2001-8955.

Date Filed: February 22, 2001.

Parties: Members of the International Air Transport Association.

Subject: PTC23 EUR-SASC 0075 dated February 2, 2001, TC23 Europe-South Asian Subcontinent, Resolutions r1-r15, Minutes—PTC23 EUR-SASC 0076 dated February 2, 2001, Tables—PTC23 EUR-SASC Fares 0024 dated February 2, 2001, Intended effective date: April 1, 2001.

Dorothy Y. Beard,
Federal Register Liaison.

[FR Doc. 01-5750 Filed 3-7-01; 8:45 am]

BILLING CODE 4910-62-P